FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington, DC 20551-0001, not later than July 26, 2022.

A. Federal Reserve Bank of Atlanta (Erien O. Terry, Assistant Vice President) 1000 Peachtree Street NE, Atlanta, Georgia 30309, or electronically to Applications.Comments@atl.frb.org:

1. The George J. White Revocable Trust, Robert D. White, as trustee, the Marilyn M. White Revocable Trust, Marilyn M. White, as trustee, Robert D. White, and Amy D. White, all of Mount Dora, Florida; George J. White III, Decatur, Georgia; Anna C. White, Asheville, North Carolina; and Amelia M. White, Athens, Georgia; a group acting in concert to retain voting shares of FNBMD Bancshares, Inc., and thereby indirectly retain voting shares of The First National Bank of Mount Dora, both of Mount Dora, Florida.

Board of Governors of the Federal Reserve System.
Michele Taylor Fennell,
Deputy Associate Secretary of the Board.

[FR Doc. 2022-14718 Filed 7-8-22; 8:45 am]

BILLING CODE 6210-01-P